DEPARTMENT OF ENERGY

Federal Energy Regulatory Commission

[Project No. 2106-059]

McCloud-Pit Project; Notice of Availability of the Final Environmental Impact Statement for the Mccloud-Pit Hydrolectric Project

In accordance with the National Environmental Policy Act of 1969 and the Federal Energy Regulatory Commission (Commission or FERC) regulations contained in the Code of Federal Regulations (CFR) (18 CFR Part 380 [FERC Order No. 486, 52 FR 47897]), the Office of Energy Projects has reviewed the application for license for the McCloud-Pit Hydroelectric Project (FERC No. 2106), located on the McCloud and Pit Rivers in Shasta County, California and has prepared a final environmental impact statement (EIS) for the project. The project occupies 1651.4 acres of federal lands administered by the U.S. Department of Agriculture-Forest Service.

The final EIS contains staff's analysis of the applicant's proposal and the alternatives for relicensing the McCloud-Pit Project. The final EIS documents the views of governmental agencies, non-governmental organizations, affected Indian tribes, the public, the license applicant, and Commission staff.

Copies of the final EIS are available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via e-mail of new filings and issuances related to this or other pending projects. For assistance, contact FERC Online Support.

For further information, please contact Emily Carter at (202) 502-6512 or at emily.carter@ferc.gov.

Dated: February 25, 2011.
Kimberly D. Bose,
Secretary.

[FR Doc. 2011-4966 Filed 3-3-11; 8:45 am]

BILLING CODE 6717-01-P